FEDERAL COMMUNICATIONS COMMISSION

[Report No. 2594]

Petitions for Reconsideration of Action in Rulemaking Proceedings

February 7, 2003.

Petitions for Reconsideration have been filed in the Commission's rulemaking proceedings listed in the Public Notice and published pursuant to 47 CFR Section 1.429(e). The full text of this document is available for viewing and copying in Room CY-A257, 445 12th Street, SW., Washington, DC or may be purchased from the Commission's copy contractor, Qualex International (202) 863-2893. Oppositions to these petitions must be filed by February 27, 2003. See § 1.4(b)(1) of the Commission's rules (47 CFR 1.4(b)(1)). Replies to an opposition must be filed within 10 days after the time for filing oppositions has expired.

Subject: Amendment of Section 73.202(b), Table of Allotments, FM Broadcast Station (Saint Joseph, Clayton, Ruston, and Wisner, Louisiana) (MM Docket No. 01-19, RM-10048, RM-10027); Amendment of Section 73.202(b), Table of Allotments, FM Broadcast Stations (Wisner, Ruston, Clayton, and Saint Joseph, Louisiana) (MM Docket No. 01-27, RM-10056, RM-10118).

Number of Petitions Filed: 1.

Subject: Amendment of Section 73.622(b), Table of Allotments, Digital Television Broadcast Stations (Boca Raton, Florida) (MM Docket No. 00-138, RM-9896).

Number of Petitions Filed: 1.

Subject: Amendment of Section 73.622(b), Table of Allotments, Digital Broadcast Stations (Fort Myers, Florida) (MM Docket No. 00-180, RM-9956).

Number of Petitions Filed: 3.

Marlene H. Dortch,
Secretary.

[FR Doc. 03-3486 Filed 2-11-03; 8:45 am]

BILLING CODE 6712-01-M